DEPARTMENT OF TRANSPORTATION

Federal Aviation Administration

14 CFR Part 39

[Docket No. FAA-2015-0250; Directorate Identifier 2014-NM-216-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A318, A319, A320, and A321 series airplanes. The NPRM proposed to require replacing certain pitot probes on the captain, first officer, and standby sides with certain new pitot probes. The NPRM was prompted by reports of airspeed indication discrepancies while flying at high altitudes in inclement weather. This action revises the NPRM by reducing the proposed compliance time for replacing certain pitot probes based on a risk assessment due to additional reports of airspeed indication discrepancies while flying at high altitudes in inclement weather. We are proposing this supplemental NPRM (SNPRM) to prevent airspeed indication discrepancies during inclement weather, which, depending on the prevailing altitude, could lead to unknown accumulation of ice crystals and consequent reduced controllability of the airplane. Since these actions impose an additional burden over those proposed in the NPRM, we are reopening the comment period to allow the public the chance to comment on these proposed changes.

DATES: We must receive comments on this SNPRM by January 22, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW. Renton, WA. For information on the availability of this material at the FAA, call 425-227-1221.

Examining the AD Docket

You may examine the AD docket on the Internet at http://www.regulations.gov by searching for and locating Docket No. FAA-2015-0250; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2015-0250; Directorate Identifier 2014-NM-216-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to all Airbus Model A318, A319, A320, and A321 series airplanes. The NPRM published in the Federal Register on March 6, 2015 (80 FR 12094) (“the NPRM”). The NPRM was prompted by reports of airspeed indication discrepancies while flying at high altitudes in inclement weather. The NPRM proposed to require replacing certain pitot probes on the captain, first officer, and standby sides with certain new pitot probes.

Actions Since Previous NPRM (80 FR 12094, March 6, 2015) Was Issued

Since we issued the NPRM (80 FR 12094, March 6, 2015), we have determined it is necessary to reduce the compliance time for replacing certain pitot probes based on a risk assessment due to additional reports of airspeed indication discrepancies while flying at high altitudes in inclement weather. The European Aviation Safety Agency (EASA), which is the Technical Agent for the Member States of the European Union, issued EASA Airworthiness Directive 2015-0205, dated October 9, 2015 (referred to after this as the Mandatory Continuing Airworthiness Information, or “the MCAI”), to correct an unsafe condition on all Airbus Model A318, A319, A320, and A321 series airplanes. The MCAI states:

Occurrences have been reported on A320 family aeroplanes of airspeed indication discrepancies while flying at high altitudes in inclement weather conditions. Investigation results indicated that A320 aeroplanes equipped with Thales Avionics Part Number (P/N) 50620-10 or P/N C16195AA pitot probes appear to have a greater susceptibility to adverse environmental conditions that aeroplanes equipped with certain other pitot probes.

Prompted by earlier occurrences, DGAC [Direction Générale de l'Aviation Civile] France issued [DGAC] AD 2001-362 [http://ad.easa.europa.eu/blob/easa_ad_2001_362.pdf/AD_2001-362] [which corresponds to paragraph (f) of FAA AD 2004-03-33, Amendment 39-13477 (69 FR 9936, March 3, 2004)] to require replacement of Thales (formerly known as Sextant) P/N 50620-10 pitot probes with Thales P/N C16195AA probes.

Since that [DGAC] AD was issued, Thales pitot probe P/N C15195BA was designed, which improved airspeed indication behavior in heavy rain conditions, but did not demonstrate the same level of robustness to withstand high-altitude ice crystals. Based on these findings, EASA have decided to implement replacement of the affected Thales [pitot] probes as a precautionary measure to improve the safety level of the affected aeroplanes.

Consequently, EASA issued AD 2014-0237 (later revised) [http://ad.easa.europa.eu/blob/easa_ad_2014_0237.pdf/AD_2014-0237], retaining the requirements of DGAC France AD 2001-362, which was superseded, and cancelling two other DGAC ADs, to require replacement of Thales Avionics pitot probes P/N C16195AA and P/N C16195BA.

Since EASA issued AD 2014-0237R1 [http://ad.easa.europa.eu/ad/2014-0237R1] was issued, results of further analyses have determined that the compliance time (48 months) of that AD has to be reduced in relation to the risk assessment.

For the reasons described above, this [EASA] AD retains the requirements of EASA AD 2014-0237R1, which is superseded, but reduces the compliance time.

You may examine the MCAI in the AD docket on the Internet at http://www.regulations.gov by searching for and locating Docket No. FAA-2015-0250.

Related Rulemaking

On February 4, 2004, we issued AD 2004-03-33, Amendment 39-13477 (69 FR 9936, March 3, 2004), applicable to certain Airbus Model A300 B2 and B4 series airplanes; Model A300 B4-600, A300 B4-600R, and A300 F4-600R series airplanes; Model A310 series Airplanes; Model A319, A320, and A321 series airplanes; Model A330-301, -321, -322, -341, and -342 airplanes; and Model A340 series airplanes. That AD requires, among other actions, replacement of certain pitot probes with certain new pitot probes. That AD was issued to prevent loss or fluctuation of indicated airspeed, which could result in misleading information being provided to the flightcrew. Accomplishing the replacement specified in paragraph (g) of this SNPRM would terminate the requirements of paragraph (f) of AD 2004-03-33, for that airplane only.

Related Service Information Under 1 CFR Part 51

Airbus has issued the following service information:

• Service Bulletin A320-34-1170, Revision 30, dated June 18, 2015.

• Service Bulletin A320-34-1456, Revision 01, dated May 15, 2012.

• Service Bulletin A320-34-1463, Revision 01, dated May 15, 2012.

The service information describes procedures for replacing certain Thales Avionics pitot probes on the captain, first officer, and standby sides. This service information is reasonably available because the interested parties have access to it through their normal course of business or by the means identified in the ADDRESSES section of this SNPRM.

Comments

We gave the public the opportunity to participate in developing this SNPRM. We considered the comments received.

American Airlines supports the proposed compliance time of 48 months for retrofit.

Request To Refer To Revised Service Information

United Airlines (UAL) and Virgin America asked that the NPRM be revised to refer to Airbus Service Bulletin A320-34-1170, Revision 29, dated February 16, 2015. (The NPRM (80 FR 12094, March 6, 2015) referred to Airbus Service Bulletin A320-34-1170, Revision 28, dated September 1, 2014, as the appropriate source of service information for replacing the pitot probes.) UAL stated that Airbus Service Bulletin A320-34-1170, Revision 29, dated February 16, 2015, includes UAL effectivity, as well as all A320 family airplanes fitted with Thales Pitot Probes. Virgin America stated that Airbus Service Bulletin A320-34-1170, Revision 28, dated September 1, 2014, is available only to select operators who previously purchased the change; Airbus Service Bulletin A320-34-1170, Revision 29, dated February 16, 2015, is available to all operators with airplanes having Thales pitot probes installed. American Airlines (AAL) asked that we refer to Airbus Service Bulletin A320-34-1170, Revision 30, which is scheduled for release in the near future. AAL added that the effectivity in Airbus Service Bulletin A320-34-1170, Revision 28, dated September 1, 2014, is incomplete.

We agree to refer to Airbus Service Bulletin A320-34-1170, Revision 30, dated June 18, 2015, for the pitot probe replacement. Airbus Service Bulletin A320-34-1170, Revision 30, dated June 18, 2015, was issued to update the operator list and related information in the effectivity, and does not include additional work. We have changed paragraph (g) of this SNPRM to refer to Airbus Service Bulletin A320-34-1170, Revision 30, dated June 18, 2015. In addition, to give credit for using Airbus Service Bulletin A320-34-1170, Revision 28, dated September 1, 2014, and Airbus Service Bulletin A320-34-1170, Revision 29, dated February 16, 2015, we added new paragraphs (i)(1)(xxv) and (i)(1)(xxvi) to this SNPRM.

Request To Reduce the Compliance Time

The Airline Pilots Association International (ALPA) asked that the compliance time for replacement of the pitot probes, as specified in paragraph (g) of the proposed AD (80 FR 12094, March 6, 2015), be reduced to 24 months or less. ALPA stated that it recognizes the potential flight safety risk of operating an airplane with reduced controllability characteristics, which justifies reducing the compliance time.

We agree with the request to reduce the compliance time for replacement of the pitot probes. As specified under “Actions Since Previous NPRM was Issued,” we have reduced the proposed compliance time for replacing certain pitot probes based on a risk assessment due to additional reports of airspeed indication discrepancies while flying at high altitudes in inclement weather. EASA has issued Airworthiness Directive 2015-0205, dated October 9, 2015, to reduce the compliance time for replacement of the pitot probes to 24 months. We have changed the compliance time in paragraph (g) of this SNPRM accordingly.

Request for Clarification

AAL stated the use of a pitot probe which meets the current icing specification, as specified in the NPRM (80 FR 12094, March 6, 2015), should note that a new icing specification is forthcoming. In addition, the UTAS (formerly Goodrich) pitot probe having part number 0851HL is built to the current specification. AAL noted that the data available today shows that pitot probes on which the new icing requirement is met should be available for retrofit in 2016.

We acknowledge the commenter's statement about the NPRM proposing the use of a pitot probe that meets the current icing airworthiness requirements and not the new icing airworthiness requirements of Amendment 25-140 (79 FR 65508, November 4, 2014) to 14 CFR part 25. Since we are currently not aware of any pitot probes certified to the new icing airworthiness requirements, this SNPRM would mandate Goodrich pitot probes having part number 0851HL, which meet the icing airworthiness requirements in effect at the time of establishing the certification basis for Airbus Model A318, A319, A320, and A321 series airplanes. AAL may request approval for an alternative method of compliance for the installation of pitot probes that meet the new certification standards once the pitot probes are available for installation, under the provisions of paragraph (k)(1) of this proposed AD.

AAL also asked the following related questions and we have provided a response to each comment:

• What FAA activities are scheduled with suppliers to meet the expectations of the new icing requirement? FAA activities associated with the new icing requirements are related to new design modifications. At this time we are not mandating installation of pitot probes which meet the new icing certification standards.

• Does the FAA anticipate issuing a new AD mandating a retrofit/forward fit to the new icing requirement? We do not plan to issue further rulemaking mandating a retrofit/forward fit to the new icing requirement at this time.

• Would the FAA extend the compliance time if another pitot probe supplier demonstrates compliance to the new icing requirement? We would not extend the compliance time because this SNPRM does not require installing pitot probes that meet the new icing requirement; therefore, the compliance time for the installation is considered adequate to address the unsafe condition.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the proposed AD (80 FR 12094, March 6, 2015). As a result, we have determined that it is necessary to reopen the comment period to provide additional opportunity for the public to comment on this SNPRM.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as RC (required for compliance) in any service information have a direct effect on detecting, preventing, resolving, or eliminating an identified unsafe condition.

As specified in a NOTE under the Accomplishment Instructions of Airbus Service Bulletin A320-34-1170, Revision 30, dated June 18, 2015, procedures and tests that are identified as RC in any service information must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in an airworthy condition. Any substitutions or changes to procedures or tests identified as RC will require approval of an AMOC.

Costs of Compliance

We estimate that this proposed AD affects 953 airplanes of U.S. registry.

We also estimate that it would take about 4 work-hours per product to comply with the new basic requirements of this proposed AD. The average labor rate is $85 per work-hour. Required parts would cost about $21,930 per product. Based on these figures, we estimate the cost of this proposed AD on U.S. operators to be $21,223,310, or $22,270 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-0250; Directorate Identifier 2014-NM-216-AD.

(a) Comments Due Date

We must receive comments by January 22, 2016.

(b) Affected ADs

This AD affects AD 2004-03-33, Amendment 39-13477 (69 FR 9936, March 3, 2004).

(c) Applicability

This AD applies to the airplanes identified in paragraphs (c)(1), (c)(2), (c)(3), and (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 34, Navigation.

(e) Reason

This AD was prompted by reports of airspeed indication discrepancies while flying at high altitudes in inclement weather. We are issuing this AD to prevent airspeed indication discrepancies during inclement weather, which, depending on the prevailing altitude, could lead to unknown accumulation of ice crystals and consequent reduced controllability of the airplane.

(f) Compliance

Comply with this AD within the compliance times specified, unless already done.

(g) Replacement of Certain Pitot Probes on the Captain, First Officer, and Standby Sides

Within 24 months after the effective date of this AD: Replace any Thales pitot probe having part number (P/N) C16195AA or P/N C16195BA, with a Goodrich pitot probe having P/N 0851HL, in accordance with the Accomplishment Instructions of Airbus Service Bulletin A320-34-1170, Revision 30, dated June 18, 2015. Accomplishing the replacement in this paragraph terminates the requirements of paragraph (f) of AD 2004-03-33, Amendment 39-13477 (69 FR 9936, March 3, 2004), for that airplane only.

(h) Optional Methods of Compliance for Replacement Required by Paragraph (g) of This AD

(1) Replacement of the pitot probes in accordance with the Accomplishment Instructions of Airbus Service Bulletin A320-34-1456, Revision 01, dated May 15, 2012 (pitot probes on the captain and standby sides); and Airbus Service Bulletin A320-34-1463, Revision 01, dated May 15, 2012 (pitot probes on the first officer side); is an acceptable method of compliance with the requirements of paragraph (g) of this AD.

(2) Airplanes on which Airbus Modification 25578 was embodied in production, except for post-modification 25578 airplanes on which Airbus Modification 155737 (installation of Thales pitot probes) was also embodied in production, are compliant with the requirements of paragraph (g) of this AD, provided it can be conclusively determined that no Thales pitot probe having P/N C16195AA, P/N C16195BA, or P/N 50620-10 has been installed since the date of issuance of the original certificate of airworthiness or the date of issuance of the original export certificate of airworthiness. Post-modification 25578 airplanes on which Airbus Modification 155737 (installation of Thales pitot probes) was also embodied in production must be in compliance with the requirements of paragraph (g) of this AD.

(i) Credit for Previous Actions

(1) This paragraph provides credit for the actions required by paragraph (g) of this AD, if those actions were performed before the effective date of this AD using the service information identified in paragraph (i)(1)(i) through (i)(1)(xxvi) of this AD. This service information is not incorporated by reference in this AD.

(i) Airbus Service Bulletin A320-34-1170, Revision 04, dated May 24, 2000.

(ii) Airbus Service Bulletin A320-34-1170, Revision 05, dated September 11, 2000.

(iii) Airbus Service Bulletin A320-34-1170, Revision 06, dated October 18, 2001.

(iv) Airbus Service Bulletin A320-34-1170, Revision 07, dated December 4, 2001.

(v) Airbus Service Bulletin A320-34-1170, Revision 08, dated January 15, 2003.

(vi) Airbus Service Bulletin A320-34-1170, Revision 09, dated February 17, 2003.

(vii) Airbus Service Bulletin A320-34-1170, Revision 10, dated November 21, 2003.

(viii) Airbus Service Bulletin A320-34-1170, Revision 11, dated August 18, 2004.

(ix) Airbus Service Bulletin A320-34-1170, Revision 12, dated December 2, 2004.

(x) Airbus Service Bulletin A320-34-1170, Revision 13, dated January 18, 2005.

(xi) Airbus Service Bulletin A320-34-1170, Revision 14, dated April 21, 2005.

(xii) Airbus Service Bulletin A320-34-1170, Revision 15, dated July 19, 2005.

(xiii) Airbus Service Bulletin A320-34-1170, Revision 16, dated November 23, 2006.

(xiv) Airbus Service Bulletin A320-34-1170, Revision 17, dated February 14, 2007.

(xv) Airbus Service Bulletin A320-34-1170, Revision 18, dated October 9, 2009.

(xvi) Airbus Service Bulletin A320-34-1170, Revision 19, dated November 9, 2009.

(xvii) Airbus Service Bulletin A320-34-1170, Revision 20, dated December 1, 2010.

(xviii) Airbus Service Bulletin A320-34-1170, Revision 21, dated March 24, 2011.

(xix) Airbus Service Bulletin A320-34-1170, Revision 22, dated July 19, 2011.

(xx) Airbus Service Bulletin A320-34-1170, Revision 23, dated February 3, 2012.

(xxi) Airbus Service Bulletin A320-34-1170, Revision 24, dated April 12, 2012.

(xxii) Airbus Service Bulletin A320-34-1170, Revision 25, dated September 4, 2012.

(xxiii) Airbus Service Bulletin A320-34-1170, Revision 26, dated September 16, 2013.

(xxiv) Airbus Service Bulletin A320-34-1170, Revision 27, dated March 18, 2014.

(xxv) Airbus Service Bulletin A320-34-1170, Revision 28, dated September 1, 2014.

(xxvi) Airbus Service Bulletin A320-34-1170, Revision 29, dated February 16, 2015.

(2) This paragraph provides credit for the replacement of pitot probes on the captain and standby sides specified in paragraph (h)(1) of this AD, if the replacement was performed before the effective date of this AD using Airbus Service Bulletin A320-34-1456, dated December 2, 2009, which is not incorporated by reference in this AD.

(3) This paragraph provides credit for the replacement of pitot probes on the first officer side as specified in paragraph (h)(1) of this AD, if those actions were performed before the effective date of this AD using Airbus Service Bulletin A320-34-1463, dated March 9, 2010, which is not incorporated by reference in this AD.

(j) Parts Installation Limitations

(1) At the applicable time specified in paragraph (j)(1)(i) or (j)(1)(ii) of this AD: No person may install on any airplane a Thales pitot probe having P/N C16195AA or P/N C16195BA.

(i) For airplanes with a Thales pitot probe having P/N C16195AA or P/N C16195BA installed: After accomplishing the replacement required by paragraph (g) of this AD.

(ii) For airplanes without a Thales pitot probe having P/N C16195AA or P/N C16195BA installed: As of the effective date of this AD.

(2) As of the effective date of this AD, no person may install on any airplane a Thales pitot probe having part number P/N 50620-10.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to EASA Airworthiness Directive 2015-0205, dated October 9, 2015, for related information. This MCAI may be found in the AD docket on the Internet at http://www.regulations.gov by searching for and locating Docket No. FAA-2015-0250.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on November 25, 2015.
Michael Kaszycki,
Acting Manager, Transport Airplane Directorate, Aircraft Certification Service.

[FR Doc. 2015-30821 Filed 12-22-15; 8:45 am]

BILLING CODE 4910-13-P